DEPARTMENT OF HEALTH AND HUMAN SERVICES

National Institutes of Health

National Institute on Aging; Amended Notice of Meeting

Notice is hereby given of a change in the meeting of the Clinical Aging Review Committee, September 26, 2019, 12:00 p.m. to September 27, 2019, 12:00 p.m., Hyatt Regency Bethesda, One Bethesda Metro Center, 7400 Wisconsin Avenue, Bethesda, MD 20814 which was published in the Federal Register on July 31, 2019, 84 FR 37328.

The meeting notice is amended to change the Contact Person from: Alicja L. Markowska, Ph.D., Scientific Review Officer, Scientific Review Branch, National Institute on Aging, National Institutes of Health, Gateway Building 2C212, 7201 Wisconsin Avenue, Bethesda, MD 20892, 301.402.7706, markowsa@nia.nh.gov to Contact Person: Isis S. Mikhail, MD, MPH, DrPH, Scientific Review Officer, Scientific Review Branch, National Institute on Aging, National Institutes of Health, Gateway Building 2C212, 7201 Wisconsin Avenue, Bethesda, MD 20892, Tel: 301-402-7704, mikhaili@mail.nih.gov.

Dated: September 13, 2019.
Miguelina Perez,
Program Analyst, Office of Federal Advisory Committee Policy.

[FR Doc. 2019-20336 Filed 9-19-19; 8:45 am]

BILLING CODE 4140-01-P